INTERNATIONAL TRADE COMMISSION

[USITC SE-18-014]

Government in the Sunshine Act Meeting Notice

Agency Holding the Meeting: United States International Trade Commission.

Time and Date: March 15, 2018 at 11:00 a.m.

Place: Room 101, 500 E Street SW, Washington, DC 20436, Telephone: (202) 205-2000.

Status: Open to the public.

Matters to be Considered:

1. Agendas for future meetings: None.

2. Minutes.

3. Ratification List.

4. Vote in Inv. Nos. 701-TA-598-600 and 731-TA-1408-1410 (Preliminary) (Rubber Bands from China, Sri Lanka, and Thailand). The Commission is currently scheduled to complete and file its determinations on March 16, 2018; views of the Commission are currently scheduled to be completed and filed on March 23, 2018.

5. Vote in Inv. Nos. 701-TA-570 and 731-TA-1346 (Final) (Aluminum Foil from China). The Commission is currently scheduled to complete and file its determinations and views of the Commission by April 9, 2018.

6. Outstanding action jackets: None.

In accordance with Commission policy, subject matter listed above, not disposed of at the scheduled meeting, may be carried over to the agenda of the following meeting.

By order of the Commission.
Issued: March 6, 2018.
William R. Bishop,
Supervisory Hearings and Information Officer.

[FR Doc. 2018-04892 Filed 3-7-18; 4:15 pm]

BILLING CODE 7020-02-P